DEPARTMENT OF VETERANS AFFAIRS

Pilot Program of Enhanced Contract Care Authority for Veterans in Highly Rural Areas

AGENCY: Department of Veterans Affairs.

ACTION: Notice.

SUMMARY: The Department of Veterans Affairs (VA) is implementing § 403 of Public Law (Pub. L.) 110-387, “Veterans' Mental Health and Other Care Improvements Act of 2008,” which requires VA to establish a pilot program to contract with non-VA health care providers to provide health services to highly rural veterans. This program will assist veterans who often have great difficulty obtaining VA health care due to physical distance to VA facilities.

DATES: Effective Date: This notice is effective August 15, 2011.

FOR FURTHER INFORMATION CONTACT: Patricia Suh, Department of Veterans Affairs, 810 Vermont Ave, NW., Washington, DC 20420, (202) 461-7157. (This is not a toll-free number.)

SUPPLEMENTARY INFORMATION: Section 308 of Public Law 111-163, the “Caregivers and Veterans Omnibus Health Services Act of 2010,” amended the “Veterans' Mental Health and Other Care Improvements Act of 2008,” Public Law 110-387, § 403, which had required VA to establish a pilot program under which we provide covered health services to eligible veterans through qualifying non-VA health care providers. Based on the amendments made by § 308, VA can immediately implement the pilot program. This notice will describe how VA will implement the program.

Pursuant to the authorizing legislation, VA will contract with medical professionals to provide care to covered veterans, as defined by § 403(b), as amended. Under § 403(b), a covered veteran is any enrolled veteran as of the date of the commencement of the pilot program or eligible under section 1710(e)(3) of Title 38, who resides in a location that is “more than 60 minutes driving distance from the nearest Department health care facility providing primary care services, if the veteran is seeking such services; more than 120 minutes driving distance from the nearest Department health care facility providing acute hospital care, if the veteran is seeking such care; or more than 240 minutes driving distance from the nearest Department health care facility providing tertiary care, if the veteran is seeking such care.”

Under § 403(d), VA must determine whether a particular entity or individual is qualified to furnish health care through the pilot program. VA will determine that an entity or individual is qualified to provide care through the pilot program using the contracting process. Contracts under the pilot program will specify that the entity or individual must meet specified, appropriate credentialing, patient safety, and quality requirements and standards identified in the solicitation package. These requirements and standards will be as similar as possible to the requirements and standards generally used by VA when VA contracts for non-VA care. This is consistent with the legislation, which requires VA to use contracts in order to arrange for the provision of care through the pilot program. See Public Law 110-387, § 403(f).

Section 403(a)(4) of Public Law 110-387 establishes specific criteria for the selection of five Veterans Integrated Service Networks (VISNs) in which VA is authorized to conduct the pilot program. These specific, congressionally mandated criteria eliminate from consideration all but the following five VISNs: VISNs 1, 6, 15, 18, and 19.

Pursuant to Public Law 110-387, § 403(e), veteran participation in the program will be voluntary. The law requires VA to permit veterans to elect to receive covered services through this program “in such form * * * as the Secretary shall specify.” We have determined that all that is necessary is the veteran's consent because VA will already be in possession of sufficient information to administer the pilot program for a specific veteran based on the veteran's eligibility for VA health care. Veterans who wish to participate will need to provide a signed consent form which can be obtained by contacting VA health care facilities within VISNs 1, 6, 15, 18, and 19.

Signing Authority

The Secretary of Veterans Affairs, or designee, approved this document and authorized the undersigned to sign and submit the document to the Office of the Federal Register for publication electronically as an official document of the Department of Veterans Affairs. John R. Gingrich, Chief of Staff, Department of Veterans Affairs, approved this document on September 23, 2010, for publication.

Dated: August 10, 2011.
William F. Russo,
Deputy Director, Office of Regulation Policy & Management, Department of Veterans Affairs.

[FR Doc. 2011-20675 Filed 8-12-11; 8:45 am]

BILLING CODE 8320-01-P